DEPARTMENT OF COMMERCE

International Trade Administration

North American Free Trade Agreement (NAFTA), Article 1904 Binational Panel Review: Notice of NAFTA Panel Decision

AGENCY: United States Section, NAFTA Secretariat, International Trade Administration, Department of Commerce.

ACTION: Notice of NAFTA Panel Decision in the matter of Ammonium Sulphate from the United States of America. (Secretariat File Number: MEX-USA-2015-1904-01).

SUMMARY: On July 7, 2021, a NAFTA Binational Panel issued its Decision in the matter of Ammonium Sulphate from the United States of America (Determination on Remand). The Binational Panel remanded the Secretaria de Economia's (Economia) second Determination on Remand and ordered Economia to issue a redetermination within 90 days.

FOR FURTHER INFORMATION CONTACT: Vidya Desai, Acting United States Secretary, NAFTA Secretariat, Room 2061, 1401 Constitution Avenue NW, Washington, DC 20230, (202) 482-5438.

SUPPLEMENTARY INFORMATION: Article 1904 of Chapter 19 of NAFTA provides a dispute settlement mechanism involving trade remedy determinations issued by the Government of the United States, the Government of Canada, and the Government of Mexico. Following a Request for Panel Review, a Binational Panel is composed to provide judicial review of the trade remedy determination being challenged and then issue a binding Panel Decision. The NAFTA Binational Panel Decision is available publicly at https://can-mex-usa-sec.org/secretariat/report-rapport-reporte.aspx?lang=eng. The NAFTA Panel Decision is being announced pursuant to Rule 70 of the NAFTA Rules of Procedure for Article 1904 Binational Panel Reviews. For the complete Rules, please see https://can-mex-usa-sec.org/secretariat/agreement-accord-acuerdo/nafta-alena-tlcan/rules-regles-reglas/article-article-articulo_1904.aspx?lang=eng.

Dated: August 27, 2021.
Vidya Desai,
Acting U.S. Secretary, NAFTA Secretariat.

[FR Doc. 2021-18895 Filed 8-31-21; 8:45 am]

BILLING CODE 3510-GT-P